DEPARTMENT OF ENERGY

Federal Energy Regulatory Commission

Combined Notice of Filings

Take notice that the Commission has received the following Natural Gas Pipeline Rate and Refund Report filings:

Filings Instituting Proceedings

Docket Numbers: RP12-250-000.

Applicants: Kern River Gas Transmission Company.

Description: Kern River's Response to June 15, 2012 Order.

Filed Date: 7/16/12.

Accession Number: 20120716-5144.

Comments Due: 5 p.m. ET 7/30/12.

Docket Numbers: RP12-863-000.

Applicants: Trunkline Gas Company, LLC.

Description: Compliance with CP12-38-000 to be effective 8/17/2012.

Filed Date: 7/12/12.

Accession Number: 20120712-5045.

Comments Due: 5 p.m. ET 7/24/12.

Docket Numbers: RP12-864-000.

Applicants: LA Storage, LLC.

Description: LA Storage, LLC Gas Tariff Revised Section 4.1—ACA to be effective 8/1/2012.

Filed Date: 7/12/12.

Accession Number: 20120712-5073.

Comments Due: 5 p.m. ET 7/24/12.

Docket Numbers: RP12-865-000.

Applicants: Dominion Transmission, Inc.

Description: DTI—July 12, 2012 Negotiated Rate Agreements to be effective 7/13/2012.

Filed Date: 7/12/12.

Accession Number: 20120712-5096.

Comments Due: 5 p.m. ET 7/24/12.

Docket Numbers: RP12-866-000.

Applicants: Trailblazer Pipeline Company LLC.

Description: 2012-07-16 Non-Conforming K's Mieco and CIMA to be effective 7/17/2012.

Filed Date: 7/16/12.

Accession Number: 20120716-5104.

Comments Due: 5 p.m. ET 7/30/12.

Docket Numbers: RP12-867-000.

Applicants: Trailblazer Pipeline Company LLC.

Description: By Displacement Only to be effective 7/17/2012.

Filed Date: 7/16/12.

Accession Number: 20120716-5117.

Comments Due: 5 p.m. ET 7/30/12.

Docket Numbers: RP12-868-000.

Applicants: Natural Gas Pipeline Company of America.

Description: Tenaska Negotiated to be effective 7/17/2012.

Filed Date: 7/17/12.

Accession Number: 20120717-5031.

Comments Due: 5 p.m. ET 7/30/12.

Docket Numbers: RP12-869-000.

Applicants: Natural Gas Pipeline Company of America.

Description: Tenaska Neg Rate to be effective 7/17/2012.

Filed Date: 7/17/12.

Accession Number: 20120717-5032.

Comments Due: 5 p.m. ET 7/30/12.

Docket Numbers: RP12-870-000.

Applicants: Petal Gas Storage, L.L.C.

Description: Non-conforming Agreement Filing to be effective 7/17/2012.

Filed Date: 7/17/12.

Accession Number: 20120717-5049.

Comments Due: 5 p.m. ET 7/30/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-854-001.

Applicants: Honeoye Storage Corporation.

Description: Priority Non-Firm Storage Service Filing Amendment to be effective 8/1/2012.

Filed Date: 7/12/12.

Accession Number: 20120712-5125.

Comments Due: 5 p.m. ET 7/24/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: July 18, 2012.
Nathaniel J. Davis, Sr.,
Deputy Secretary.

[FR Doc. 2012-18013 Filed 7-23-12; 8:45 am]

BILLING CODE 6717-01-P